NUCLEAR REGULATORY COMMISSION

[ Docket No. 50-271-LR; ASLBP No. 06-849-03-LR]

Atomic Safety and Licensing Board; In the Matter of Entergy Nuclear Vermont Yankee, L.L.C., and Entergy Nuclear Operations, Inc. (Vermont Yankee Nuclear Power Station); Notice of Hearing (Application for License Renewal)

May 11, 2007.

Before Administrative Judges: Alex S. Karlin, Chairman, Dr. Richard E. Wardwell, Dr. Thomas S. Elleman.

This proceeding concerns the January 25, 2006, application of Entergy Nuclear Vermont Yankee, L.L.C., and Entergy Nuclear Operations, Inc. (collectively, Entergy), to renew the operating license for the Vermont Yankee Nuclear Power Station in Windham County, Vermont (Operating License No. DPR-28). Entergy seeks to extend this license for an additional twenty years beyond the current expiration date of March 21, 2012. On March 27, 2006, the Commission published a notice of acceptance for docketing of the Entergy renewal application and a notice of opportunity to request a hearing on the application. 71 FR 15,220 (Mar. 27, 2006). Requests for hearings and petitions to intervene were filed on or before May 26, 2006, by four entities: The Vermont Department of Public Service (DPS), the Attorney General of the Commonwealth of Massachusetts, the Town of Marlboro, Vermont, and the New England Coalition (NEC). On June 14, 2006, this Atomic Safety and Licensing Board was established to conduct this adjudication. 71 FR 34,397 (June 14, 2006).

On August 1 and 2, 2006, the Board heard oral argument from the petitioners, Entergy, and the NRC Staff in Brattleboro, Vermont, relating to the admissibility of the proposed contentions. The standing of the petitioners to intervene was uncontested. On September 22, 2006, the Board issued a Memorandum and Order admitting contentions submitted by DPS and NEC, thereby granting two of the requests for a hearing and admitting DPS and NEC as parties to the proceeding. LBP-06-20, 64 NRC 131, 143 (2006). At the same time, the Board also granted these two organizations' requests to adopt one another's contentions under 10 CFR 2.309(f)(3). On November 17, 2006, the Board granted the request by the State of New Hampshire to participate in this proceeding as an interested state under 10 CFR 2.315(c).

In light of the foregoing, please take notice that an evidentiary hearing will be conducted in this proceeding. Subject to a Board determination regarding any request to employ formal hearing procedures under 10 CFR part 2, subpart G or expedited hearing procedures under 10 CFR part 2, subpart N, see 10 CFR 2.310, the evidentiary hearing on all admitted contentions will be governed by the informal hearing procedures set forth in 10 CFR part 2, subpart L, 10 CFR 2.1200—2.1213. During the course of the proceeding, the Board may also hear oral arguments as provided in 10 CFR 2.331, may hold various prehearing conferences pursuant to 10 CFR 2.329, and may conduct evidentiary hearings in accordance with 10 CFR 2.1206-2.1208. These may be held via teleconference, video-conference, and/or in person. The public may attend any oral argument, prehearing conference, or evidentiary hearing. Notices of these sessions will be published in the Federal Register and/or made available to the public at the NRC Public Document Room (PDR), located at One White Flint North, 11555 Rockville Pike (first floor), Rockville, Maryland, and through the NRC Web site, http://www.nrc.gov.

Additionally, as provided in 10 CFR 2.315(a), any “person who is not a party” to the proceeding may submit a written limited appearance statement. Limited appearance statements do not constitute evidence, but they are placed in the docket for the hearing and provide members of the public with an opportunity to make the Board and/or the parties aware of their concerns about matters at issue in the proceeding. A written limited appearance statement can be submitted at any time and should be sent to the Office of the Secretary using one of the following methods: (1) Mail to the Office of the Secretary, U.S. Nuclear Regulatory Commission, Washington, DC 20555-0001, Attention: Rulemakings and Adjudications Staff, with a copy to the Chairman of this Licensing Board at Mail Stop T-3F23, Atomic Safety and Licensing Board Panel, U.S. Nuclear Regulatory Commission, Washington, DC 20555-0001; (2) e-mail to the Office of the Secretary at hearingdocket@nrc.gov, with a copy to the Board Chairman (c/o Marcia Carpentier, mxc7@nrc.gov); or (3) fax to the Office of the Secretary at 301-415-1101 (facsimile verification number: 301-415-1966), with a copy to the Board Chairman at 301-415-5599 (facsimile verification number: 301-415-7550).

At a later date, the Board may, at its discretion, hear oral limited appearance statements at a location in the vicinity of the Vermont Yankee facility. Notice of any oral limited appearance sessions will be published in the Federal Register and/or made available to the public at the NRC PDR and on the NRC Web site, http://www.nrc.gov.

The deadline for this Board's receipt of limited appearance statements (written or oral) will be the day preceding the commencement of the evidentiary hearing. The evidentiary hearing will occur after the NRC Staff issues its final environmental report and final safety evaluation report on this application. Thus, the evidentiary hearing has not yet been specifically scheduled, but will probably commence in early 2008.

Documents relating to this proceeding are available for public inspection at the Commission's PDR or electronically from the publicly available records component of NRC's document system (ADAMS). ADAMS is accessible from the NRC Web site at http://www.nrc.gov/reading-rm/adams.html (the Public Electronic Reading Room). Persons who do not have access to ADAMS, or who encounter problems in accessing the documents located in ADAMS, should contact the NRC PDR Reference staff by telephone at 1-800-397-4209 or 301-415-4737, or by e-mail at pdr@nrc.gov.

It is so ordered.

Dated: May 11, 2007.
For the Atomic Safety and Licensing Board.¹
¹ Copies of this order were sent this date by Internet e-mail transmission to counsel for (1) licensees Entergy Nuclear Vermont Yankee, L.L.C., and Entergy Nuclear Operations, Inc.; (2) intervenors Vermont Department of Public Service and New England Coalition of Brattleboro, Vermont; (3) the Staff and (4) the State of New Hampshire.
Alex S. Karlin,
Chairman, Administrative Judge, Rockville, Maryland.

[FR Doc. E7-9524 Filed 5-16-07; 8:45 am]

BILLING CODE 7590-01-P